DEPARTMENT OF THE INTERIOR

Fish and Wildlife Service

[FWS-R4-ES-2013-N120; FXES11130400000C2-134-FF04E00000]

Endangered and Threatened Wildlife and Plants; Notice of Availability of a Technical/Agency Draft Recovery Plan for Georgia Pigtoe Mussel, Interrupted Rocksnail, and Rough Hornsnail

AGENCY: Fish and Wildlife Service, Interior.

ACTION: Notice of availability and request for public comment.

SUMMARY: We, the Fish and Wildlife Service, announce the availability of the technical/agency draft recovery plan for the endangered Georgia pigtoe mussel, interrupted rocksnail, and rough hornsnail. The draft recovery plan includes specific recovery objectives and criteria the interrupted rocksnail and rough hornsnail would have to meet in order for us to downlist them to threatened under the Endangered Species Act of 1973, as amended (Act). Recovery criteria for the Georgia pigtoe will be developed after we complete critical recovery actions and gain a greater understanding of the species. We request review and comment on this draft recovery plan from local, State, and Federal agencies, and the public.

DATES: In order to be considered, comments on the draft recovery plan must be received on or before September 3, 2013.

ADDRESSES: If you wish to review this technical/agency draft recovery plan, you may obtain a copy by contacting Jeff Powell, U.S. Fish and Wildlife Service, Alabama Field Office, 1208-B Main Street, Daphne, AL 36526; tel. (251) 441-5858; or by visiting the Service's Alabama Field Office Web site at http://www.fws.gov/daphne. If you wish to comment, you may submit your comments by one of the following methods:

1. You may submit written comments and materials to Jeff Powell, at the above address.

2. You may hand-deliver written comments to our Alabama Field Office, at the above address, or fax them to (251) 441-6222.

3. You may send comments by email to alabama@fws.gov. Please include “Three-Snail Recovery Plan Comments” on the subject line.

For additional information about submitting comments, see the “Request for Public Comments” section below.

FOR FURTHER INFORMATION CONTACT: Jeff Powell (see ADDRESSES above).

SUPPLEMENTARY INFORMATION:

Background

The Georgia pigtoe mussel (Pleurobema hanleyianum), interrupted rocksnail (Leptoxis foremani), and rough hornsnail (Pleurocera foremani) were listed as endangered species under the Act (16 U.S.C. 1531 et seq.) on November 2, 2010 (75 FR 67512). All three species are endemic to the Coosa River drainage of the Mobile River Basin in Alabama and Georgia; the Georgia pigtoe also occurs in a Coosa River tributary in Tennessee. All three species have disappeared from 90 percent or more of their historical ranges, primarily due to impoundment of riverine habitats. A single population of interrupted rocksnail is known to survive in the Oostanaula River, Georgia. Only two localized populations of rough hornsnail, one each in Yellowleaf Creek, Alabama, and the lower Coosa River, Alabama, are currently known. Surviving populations of Georgia pigtoe occur in the Conasauga River, Georgia, and possibly in the Coosa River (Weiss Bypass), Alabama. The rough hornsnail is State listed as a Priority 1 (P1) species in Alabama; the interrupted rocksnail is State listed as P1 species in Alabama, while the Georgia pigtoe is State listed as endangered in Georgia.

Approximately 258 km (160 mi) of stream channels in the Coosa River drainage have been designated as critical habitat for the interrupted rocksnail (101 km (63 mi)), rough hornsnail (27.4 km (17 mi)), and Georgia pigtoe mussel (153 km (95 mi)). Critical habitat is located in Cherokee, Clay, Coosa, Elmore and Shelby Counties, Alabama; Gordon, Floyd, Murray, and Whitfield Counties, Georgia; and Bradley and Polk Counties, Tennessee.

The Georgia pigtoe mussel has a federal recovery priority number of 5, which indicates the species faces a high degree of threat but also has a low recovery potential. The interrupted rocksnail and rough hornsnail each have a recovery priority number of 2, which indicates both species are facing a high degree of threat but have a high recovery potential.

Restoring an endangered or threatened animal or plant to the point where it is again a secure, self-sustaining member of its ecosystem is a primary goal of our endangered species program. To help guide the recovery effort, we prepare recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide public notice and an opportunity for public review and comment during recovery plan development. We will consider all information presented during a public comment period prior to approval of each new or revised recovery plan. We and other Federal agencies will take these comments into account in the course of implementing approved recovery plans.

Recovery Plan Components

The Service's recovery objectives are to work to reduce threats so that the interrupted rocksnail and rough hornsnail may be downlisted to threatened status, and to prevent further decline of the Georgia pigtoe's Conasauga River population and prevent extinction of the species as a whole. Defining reasonable downlisting or delisting criteria for the Georgia pigtoe is not possible at this time, given the current low number of populations and individuals, lack of information about the species' biology, and magnitude of threats. Therefore, this recovery plan only establishes downlisting criteria for the two snails. Instead of establishing downlisting or delisting criteria at this time for Georgia pigtoe, we are identifying preliminary actions to help us prevent its extinction until we can obtain further information on this species and determine recovery criteria.

Downlisting of the interrupted rocksnail and rough hornsnail will be considered when we:

1. Protect and manage at least three geographically distinct populations for each species. The populations can include the existing populations (Oostanaula for the interrupted rocksnail, Yellowleaf Creek and Lower Coosa River for the rough hornsnail), or can be reintroduced;

2. Achieve demonstrated and sustainable natural reproduction and recruitment in each population for each species as evident by multiple age classes of individuals, including naturally recruited juveniles, and recruitment rates exceeding mortality rates for a period of 5 years; and

3. Develop and implement habitat and population monitoring programs for each population.

The following actions are identified as necessary to help prevent the extinction of the Georgia pigtoe:

1. Maintain and where possible conduct efforts to improve the Conasauga River population;

2. Develop and implement a monitoring plan to help ensure that the Conasauga River population does not decline further;

3. Develop a captive propagation program and establish an ark population (a secure, maintained captive population) to help support the Conasauga River population;

4. Conduct research, such as identification of an appropriate fish host, that is important to gain better understanding of this mussel's life history; and

5. Identify, monitor, and where possible improve potential reintroduction sites in the species' historic range.

Request for Public Comments

We request written comments on the draft recovery plan. We will consider all comments we receive by the date specified in DATES prior to final approval of the plan.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533 (f).

Dated: June 26, 2013.
Mike Oetker,
Acting Regional Director, Southeast Region.

[FR Doc. 2013-16032 Filed 7-2-13; 8:45 am]

BILLING CODE 4310-55-P